DEPARTMENT OF COMMERCE

Economic Development Administration

Membership of the Economic Development Administration Performance Review Board

AGENCY: Economic Development Administration, Department of Commerce.

ACTION: Notice of Membership on the Economic Development Administration's Performance Review Board Membership.

SUMMARY: In accordance with 5 U.S.C. 4314(c)(4), the Economic Development Administration (EDA), Department of Commerce (DOC), announce the appointment of those individuals who have been selected to serve as members of EDA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA's Performance Review Board begins on October 23, 2012.

FOR FURTHER INFORMATION CONTACT: Ronda L. Holbrook, U.S. Department of Commerce, Human Resources Operations Center (DOCHROC), Office of Executive Resources Operations, 14th and Constitution Avenue NW., Room 7419, Washington, DC 20230, at (202) 482-5243.

SUPPLEMENTARY INFORMATION: In accordance with 5 U.S.C. 4314(c)(4), the Economic Development Administration (EDA), Department of Commerce (DOC), announce the appointment of those individuals who have been selected to serve as members of EDA's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for EDA's Performance Review Board begins on October 23, 2012. The name, position title, and type of appointment of each member of EDA's Performance Review Board are set forth below by organization:

1. Jeannette P. Tamayo, Chicago Regional Director, EDA, career, serves as Chair, new member.

2. Kenneth J.E. Hyatt, Acting Deputy Under Secretary for International Trade, International Trade (ITA), non-career, new member.

3. Gordon T. Alston, Director, Financial Reporting and Internal Controls, OS, Office of the Chief Financial Officer and Assistant Secretary for Administration, career.

4. Edith J. McCloud, Associate Director for Management, Minority Business Development Agency, career.

Dated: October 11, 2012.
Susan Boggs,
Director, Office of Staffing, Recruitment and Classification, Department of Commerce Human Resources Operations Center.

[FR Doc. 2012-26061 Filed 10-22-12; 8:45 am]

BILLING CODE 3510-25-P